DEPARTMENT OF TRANSPORTATION

National Highway Traffic Safety Administration

49 CFR Part 594

Schedule of Fees Authorized by 49 U.S.C. 30141

AGENCY: National Highway Traffic Safety Administration (NHTSA), DOT.

ACTION: Final Rule; correction.

SUMMARY: The final rule adopting fees beginning on page 60596 in the Federal Register of Thursday, September 26, 2002, contains errors that need correction.

DATES: This correction is effective October 1, 2002.

FOR FURTHER INFORMATION CONTACT: Coleman Sachs, Office of Chief Counsel, NHTSA (202-366-5238).

SUPPLEMENTARY INFORMATION: NHTSA published a final rule on September 26, 2002 (67 FR 60596) adopting fees for Fiscal Year (FY) 2003, and until further notice, as authorized by 49 U.S.C. 30141, relating to the registration of importers and the importation of motor vehicles not certified as conforming to the Federal motor vehicle safety standards. This correction corrects that document.

1. On page 60599 in the first column, under Amendatory Instruction 2 to section 594.6, paragraph D is corrected to read as follows: “D. Revising the last sentence of paragraph (h).”

2. On page 60599 in the first column, under Amendatory Instruction 2 to section 594.6, the following paragraph is added: “F. Revising paragraph (d).”

3. On page 60599 in the second column, after paragraph (b), add paragraph (d) to read as follows:

* * * * *

(d) That portion of the initial annual fee attributable to the remaining activities of administering the registration program on and after October 1, 2002, is set forth in paragraph (i) of this section. This portion shall be refundable if the application is denied, or withdrawn before final action upon it.

* * * * *

Dated: October 4, 2002.
Jeffrey N. Runge,
Administrator.

[FR Doc. 02-25726 Filed 10-8-02; 8:45 am]

BILLING CODE 4910-59-P